DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of 9 newly-designated individuals and entities whose property and interests in property are blocked pursuant to Executive Order 12978 of October 21, 1995, “Blocking Assets and Prohibiting Transactions with Significant Narcotics Traffickers.”

DATES: The designation by the Director of OFAC of the 9 individuals and entities identified in this notice pursuant to Executive Order 12978 is effective on August 30, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on demand service, tel.: (202) 622-0077.

Background

On October 21, 1995, the President, invoking the authority, inter alia, of the International Emergency Economic Powers Act (50 U.S.C. 1701-1760) (“IEEPA”), issued Executive Order 12978 (50 Feg. Reg. 54579, October 24, 1995) (the “Order”). In the Order, the President declared a national emergency to deal with the threat posed by significant foreign narcotics traffickers centered in Colombia and the harm that they cause in the United States and abroad.

Section 1 of the Order blocks, with certain exceptions, all property and interests in property that are in the United states, or that hereafter come within the United States or that are on hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or service in support of, the narcotics trafficking activities or persons designated in or pursuant to this order; and (4) persons determined by the Secretary of the Treasury, in consultation with the Attorney General and the Secretary of State, to be owned or controlled by, or to act for or on behalf of, persons designated pursuant to this Order.

On August 30, 2007, the Director of OFAC, in consultation with the Attorney General and Secretary of State, as well as the Secretary of Homeland Security, designated 9 entities and individuals whose property and interests in property are blocked pursuant to the Order.

The list of additional designees is as follows:

1. MEJIA MUNERA, Miguel Angel Melchor (a.k.a. “El Loco”; a.k.a. “Los Mellizos”; a.k.a. “Comandante Pablo”; a.k.a. “Pablo Mejia”; a.k.a. MEJIA MUNERA, Miguel Angel); c/o CIA COMERCIALIZADORA DE BIENES RACICES LTDA., Cali, Colombia; Calle 9F No.24-98, Cali, Colombia; DOB 11 Jul 1959; POB Cali, Colombia; Citizen Colombia; Nationality Colombia; Cedula No. 16627309 (Colombia); Passport AC744430 (Colombia); (INDIVIDUAL) [SDNT]

2. MEJIA MUNERA, Victor Manuel (a.k.a. “Pablo Arauca”); Colombia; DOB 11 Jul 1959; POB Cali, Colombia; Citizen Colombia; Nationality Colombia; Cedula No. 16627308 (Colombia); Passport AE313327 (Colombia); (INDIVIDUAL) [SDNT]

3. VANOY MURILLO, Ramiro (a.k.a. VANOY RAMIREZ, Ramiro; a.k.a. “Cuco”); Carrera 86 No. 13B-89, Apt. 302F, Cali, Colombia; DOB 31 mar 1948; POB Yacopi, Cundinamarca, Colombia; Citizen Colombia; Nationality Colombia; Cedula No. 462653 (Colombia); (INDIVIDUAL) [SDNT]

4. ZULUAGA LINDO, Francisco Javier (a.k.a. GALINDO, Gabriel; a.k.a. LINDO, Javier; a.k.a. ``Gordo Lindo''; a.k.a. ``El Gordo''); c/o SOCIEDAD SUPERDEPORTES LTDA., Bogota, Colombia; Calle 9 No. 28-50, Piso 3, Cali, Colombia; Calle 10 No. 46-45, Cali, Colombia; DOB 15 Jan 1970; POB Cali, Colombia; Citizen Colombia; Nationality Colombia; Cedula No. 16774828 (Colombia); Passport AF869394 (Colombia); Passport AE047754 (Colombia); (INDIVIDUAL) [SDNT]

5. MORA RICARDO, Daniel Alberto, c/o SOCIEDAD SUPERDEPORTES LTDA., Bogota, Colombia; c/o ABS HEALTH CLUB SA, Bogota, Colombia; FL, United States; DOB 08 Jan 1965; Citizen Colombia; Nationality Colombia; Cedula No. 80408253 (Colombia); SSN 027-68-4733 (United States); Driver's License No. M600161650080 (United States) issued: 07 Apr 2006 exp: 08 Jan 2011; (INDIVIDUAL) [SDNT]

6. NOVA CARVAJAL, Mary Luz, c/o SOCIEDAD SUPERDEPORTES LTDA., Bogota, Colombia; c/o ABS HEALTH CLUB SA, Bogota, Colombia; DOB 19 Dec 1974; Citizen Colombia; Nationality Colombia; Cedula No. 52253223 (Colombia); (INDIVIDUAL) [SDNT]

7. CIA COMERCIALIZADORA DE BIENES RAICES LTDA.; (a.k.a. COBIENES LTDA.; f.k.a. MEJIA MUNERA HERMANOS LTDA.); Cali, Colombia; NIT # 8000689284 (Colombia); (ENTITY) [SDNT]

8. SOCIEDAD SUPERDEPORTES LTDA., Carrera 10 No. 93A-29, Bogota, Colombia; NIT # 8009712337 (Colombia); (ENTITY) [SDNT]

9. ABS HEALTH CLUB SA, Carrera 10 No. 93A-27, Bogota, Colombia; NIT # 830121474-8 (Colombia); (ENTITY) [SDNT]

Dated: August 30, 2007.
Adam J. Szubin,
Director, Office of Foreign Assets Control.

[FR Doc. 07-4361 Filed 9-06-07; 8:45 am]

BILLING CODE 4811-42-M